DEPARTMENT OF TRANSPORTATION

[Docket No.: MARAD 2004-17166]

Availability of a Final Environmental Assessment and Finding of No Significant Impact

AGENCY: Maritime Administration, Department of Transportation.

ACTION: Notice of availability of Final Environmental Assessment and Finding of No Significant Impact.

SUMMARY: Notice is hereby given that the Maritime Administration (MARAD), of the U.S. Department of Transportation (US DOT) has made available for review to interested parties the Final Environmental Assessment (FEA) for the transfer and disposal of approximately nine obsolete vessels from the James River Reserve Fleet (JRRF) to the Able UK facility located in Teeside, United Kingdom. The FEA studied potential environmental effects associated with the transfer of the obsolete vessels for disposal. The FEA considered potential effects to the natural and manmade environments including: Air quality; water quality; geology and soils; coastal resources; terrestrial resources; aquatic resources; navigation; hazardous materials; cultural and historic resources; and visual and aesthetic resources, among other topics associated with the proposed action.

Conclusion: The Maritime Administration assessed the potential environmental consequences of the proposed action and the no action alternative, and found no significant impacts to the human and natural environments from implementation of the proposed alternative.

FOR FURTHER INFORMATION CONTACT: Debra Aheron, U.S. DOT, Maritime Administration, 400 7th Street, SW., Washington, DC 20590, tel: (202) 366-8887/fax: (202) 366-6988, e-mail: Deborah.Aheron@marad.dot.gov.

SUPPLEMENTARY INFORMATION: Copies of the Final EA are available on the MARAD Web site (http://www.marad.dot.gov) and on the Department of Transportation Docket Management System (http://dms.dot.gov).

(Authority: 49 CFR 1.66.)

By Order of the Maritime Administrator.
Dated: July 26, 2004.
Joel C. Richard,
Secretary, Maritime Administration.

[FR Doc. 04-17288 Filed 7-28-04; 8:45 am]

BILLING CODE 4910-81-P